FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Post Construction Elevation Certificate/Flood Proofing Certificate.

Type of Information Collection: Revision of a currently approved collection.

OMB Number: 3067-0077.

Abstract: The Elevation Certificate and Flood Proofing Certificate are adjuncts to the application for flood insurance. The certificates are required for proper rating of post Flood Insurance Rate Map (FIRM) structures, which are buildings constructed after publication of the FIRM, for flood insurance in Special Flood Hazard Areas. In addition, the Elevation Certificate is needed for pre-FIRM structures being rated under post-FIRM flood insurance rules. The certificates provide community officials and others standardized documents to readily record needed information.

The certificates are supplied to insurance agents, community officials, surveyors, engineers, architects, and NFIP policyholders/applicants. The community officials or other professionals provided the elevation data required to document conformance with floodplain management regulations and for the applicants so that actuarial insurance rates can be charged for insuring property against the flood hazard.

Affected Public: Individuals or households, business or other for-profit, not-for-profit institutions, farms, and state, local or tribal government.

Number of Respondents: 54,695.

Estimated Time per Respondent: FEMA Form 81-31, Elevation Certificate 3 hours and FEMA Form 81-65, Flood Proofing Certification, 3.25 hours, CD Training Module, .25 hour.

Estimated Total Annual Burden Hours: 177,756.

Frequency of Response: One certificate is required per structure.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Branch Chief, Records Management, Information Resources Management Division, Information Technology Services Directorate, Federal Emergency Management Agency, 500 C Street, SW., Room 316, Washington, DC 20472. Facsimile number (202) 646-3347, or email InformationCollections@fema.gov.

Dated: October 31, 2002.
Edward W. Kernan,
Division Director, Information Resources Management Division, Information Technology Services Directorate.

[FR Doc. 02-28625 Filed 11-8-02; 8:45 am]

BILLING CODE 6718-01-P